DEPARTMENT OF AGRICULTURE

Forest Service

Hood/Willamette Resource Advisory Committee (RAC)

AGENCY: Forest Service, USDA.

ACTION: Action of meeting.

SUMMARY: The Hood/Willamette Resource Advisory Committee (RAC) will meet on Thursday, September 30, 2010. The meeting and field trip is scheduled to begin at 10 a.m. and will conclude at approximately 3 p.m. The meeting will be held at McKenzie River Ranger District Office; 57600 McKenzie Highway; McKenzie Bridge, Oregon; (541) 822-3381. The tentative agenda includes: (1) Public forum; (2) Recommended changes for 2011 projects; and (3) Field Trip to review Title II Projects. The Public Forum is tentatively scheduled to begin at 10:05 a.m. Time allotted for individual presentations will be limited to 3-4 minutes. Written comments are encouraged, particularly if the material cannot be presented within the time limits for the Public Forum. Written comments may be submitted prior to the September 30th meeting by sending them to Connie Athman at the address given below.

FOR FURTHER INFORMATION CONTACT: For more information regarding this meeting, contact Connie Athman; Mt. Hood National Forest; 16400 Champion Way; Sandy, Oregon 97055; (503) 668-1672.

Dated: August 31, 2010.
Gary L. Larsen,
Forest Supervisor

[FR Doc. 2010-22165 Filed 9-8-10; 8:45 am]

BILLING CODE 3410-11-M